DEPARTMENT OF AGRICULTURE

Animal and Plant Health Inspection Service

7 CFR Part 319

[Docket No. 03-113-2]

Citrus From Peru

AGENCY: Animal and Plant Health Inspection Service, USDA.

ACTION: Proposed rule.

SUMMARY: We are proposing to amend the fruits and vegetables regulations to allow the importation, under certain conditions, of fresh commercial citrus fruit (grapefruit, limes, mandarin oranges or tangerines, sweet oranges, and tangelos) from approved areas of Peru into the United States. Based on the evidence in a recent pest risk analysis, we believe these articles can be safely imported from Peru, provided certain conditions are met. This action would provide for the importation of citrus from Peru into the United States while continuing to protect the United States against the introduction of plant pests.

DATES: We will consider all comments that we receive on or before November 29, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 03-113-2, Regulatory Analysis and Development, PPD, APHIS, Station 3C71, 4700 River Road Unit 118, Riverdale, MD 20737-1238. Please state that your comment refers to Docket No. 03-113-2.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Mr. Tony Roman, Import Specialist, Commodity Import Analysis and Operation Staff, PPQ, APHIS, 4700 River Road Unit 133, Riverdale, MD 20737-1231; (301) 734-8758.

SUPPLEMENTARY INFORMATION:

Background

The regulations in “Subpart—Fruits and Vegetables” (7 CFR 319.56 through 319.56-8, referred to below as the regulations), prohibit or restrict the importation of fruits and vegetables into the United States from certain parts of the world to prevent the introduction and dissemination of plant pests. The Government of Peru has requested that the Animal and Plant Health Inspection Service (APHIS) amend the regulations to allow the importation into the United States of grapefruit, limes, mandarin oranges or tangerines, sweet oranges, and tangelos.

To evaluate the risks associated with the importation of citrus from Peru, we prepared a draft pest risk analysis entitled “Importation of Fresh Commercial Citrus Fruit: Grapefruit (Citrus x paradisi Macfad.); Lime (C. aurantiifolia [Christm.] Swingle); Mandarin Orange or Tangerine (C. reticulata Blanco); Sweet Orange (C. sinensis [L.] Osbeck); Tangelo (C. x tangelo J.W. Ingram & H.E. Moore) from Peru into the United States” (October 2003).

On January 12, 2004, we published a notice in the Federal Register (69 FR 1694-1695, Docket No. 03-113-1) in which we advised the public of the availability of the draft pest risk analysis. We solicited comments concerning those documents for 60 days ending March 12, 2004, and received 14 comments by that date. The comments were from Members of Congress, foreign importers, foreign citrus producers, foreign and domestic exporters and distributors, State departments of agriculture, and an agricultural trade service. The majority of the commenters agreed with the conclusions in the risk analysis and supported amending the regulations to allow commercial imports of citrus from Peru into the United States. Two of these commenters requested clarification on specific issues, while two other commenters opposed allowing commercial citrus imports from Peru into the United States. These comments are discussed below by topic.

Fruit Fly Trapping and Surveys

Two commenters stated that our proposed rule should specify acceptable fruit fly population limits (flies/trap/day) in the registered citrus groves and how producers would respond if fruit fly populations exceed this limit. One of the commenters asked that we also include the levels of pest interceptions which would trigger rejection of fruit in packing facilities and noted that the pest risk analysis states only that these levels are determined by agreement. The commenter argued that we maintain these types of standards for other countries that export fruit to the United States.

Under Peru's national fruit fly program, production sites are required to maintain prevalence levels of less than 0.01 flies per trap per day for all citrus species, except key limes. Production sites that exceed this level are removed from the program for the season and have to undergo immediate actions to control pests, which may include the use of bait sprays and the imposition of quarantines on production places and buffer areas. With regard to key limes, if just one larva is found in fruit in the production site, Peru prohibits shipments from the site for the remainder of the season and executes immediate pest control measures. Fruit is only allowed in packinghouses from production places that are participating in the program. If fruit fly larvae are detected in a packinghouse, appropriate quarantine measures are immediately applied. We are confident that Peru's national fruit fly control program will continue to apply and enforce measures that ensure production sites maintain low prevalence levels. Because the Peruvian national fruit fly program is well established and operating in accordance with clearly defined criteria that APHIS considers to be effective, we believe it would be appropriate to simply require producer participation in the program without including in the regulations the specific information suggested by the commenters. The proposed regulations would provide that Peru's fruit fly program must be approved by APHIS, which would allow for APHIS to discontinue imports of Peruvian citrus if we determine that the program is no longer effective at mitigating the risk of introducing pests of concern into the United States.

One commenter noted that the risk analysis makes no mention of safeguards to ensure that potentially infected materials are kept out of approved growing areas in Peru. The commenter stated that it was unclear as to whether surveys to verify freedom from targeted diseases would be ongoing in approved growing areas and requested that this be specifically stated in the proposed risk mitigation measures.

As stated in our pest risk analysis, Peru was declared free of citrus canker (Xanthomonas aconopodis), sweet orange scab (Elsino australis), and citrus black spot (Guignardia citricarpa), diseases of quarantine significance to the United States, after 3 years of negative survey results from 1996-2000. After 2000, the focus of the disease surveys shifted from establishing the absence of citrus canker, sweet orange scab, and citrus black spot to monitoring Peru's freedom from the diseases. The pest risk analysis states that disease surveys are conducted year-round and monthly reports are provided to APHIS. The results of the surveys from 1996 to 2002 are summarized in the pest risk analysis. We consider all of Peru, not just the approved growing areas, to be free of citrus canker, sweet orange scab, and citrus black spot. To prevent the introduction of the citrus canker, sweet orange scab, and citrus black spot, Peru restricts citrus imports from countries where those diseases are known to occur.

Port of Entry Inspection

One commenter took issue with the following statement in the pest risk analysis: “Standard port of entry inspection to which all commodities are subjected can be expected to assure that sufficient phytosanitary security has been provided regarding this pest [i.e., Ecdytolopha aurantiana].” The commenter stated that the standard inspection we refer to no longer exists with the assimilation of agricultural inspection into the Department of Homeland Security (DHS). The commenter stated that there was a need to develop a better means to characterize and assess the ability of port of entry inspection to provide effective risk management. A second commenter also stated that inspection at the port of entry was inadequate because many shipments are not inspected thoroughly or inspected at all, due to the level of funding for this program.

We disagree with the commenters' contention that the quality of port inspections has suffered because they are now carried out by DHS. While DHS conducts a majority of inspections of agricultural commodities at the ports of first arrival, inspectors follow established and effective APHIS protocols regarding inspection rates and procedures. APHIS continues to work with DHS to ensure that the United States is protected against pests of concern that may be associated with agricultural imports.

One commenter stated that larvae in citrus are difficult to detect, therefore, larvae would most likely not be found until the fruit had already entered into commerce. The commenter added that disease symptoms are not expressed until a plant or fruit nears maturity and that some diseases may not be detected in visual surveys.

Under this proposed rule, citrus fruit from Peru would have to originate in production sites participating in Peru's national fruit fly program, be inspected prior to export, cold treated for fruit flies while en route to the United States, and inspected at the port of entry. Inspection at the port of entry would include fruit cutting, which is required by the regulations in § 319.56-2d(b)(8) for each shipment of fruit cold treated for Medfly in order to monitor treatment effectiveness. Our experience with fruit cutting for clementines from Spain, as well as other cold treated fruit, has shown fruit cutting to be a very effective means of monitoring the effectiveness of cold treatment. As stated previously, Peru is considered to be free of the diseases of concern that were considered in the risk analysis-citrus canker, citrus black spot, and sweet orange scab. Peru's disease surveillance program, which monitors the country's growing areas for these diseases, has been in effect since 1996 and will be ongoing. With this program in place, we are confident that the detection of a disease outbreak would occur early, thus, precluding the introduction of diseases of concern into the United States.

General Comments

One commenter stated that registering groves was an inadequate mitigation measure because it was too difficult to monitor and enforce and because commingling of fruit from neighboring groves or adjacent areas was commonplace.

If grove registration was to be the only mitigating measure employed, we could understand the commenter's misgivings. However, grove registration is only one of the mitigating measures that would be in place. Requiring groves to register with Peru's national plant protection organization (NPPO), the Servicio Nacional de Sanidad Agraria (SENASA), and participate in the national fruit fly program would allow SENASA and APHIS to monitor the pest situation in production sites which intend to ship to the United States and allow for an easy way to trace problems with a particular shipment. It would also ensure that citrus packers understand and follow specific safeguards when growing, harvesting, and packing fruit. We have no evidence to suggest that the commingling of fruit described by the commenter occurs in registered production sites.

Another commenter stated that we should not rely on cold treatment alone, citing the interception of the Mediterranean fruit fly (Medfly, Ceratitis capitata) in Spanish clementines in 2002/2003 as an example. The commenter took issue with the section of the pest risk analysis which examined historical performances of existing programs, stating that the analysis ignores the circumstances by which it became necessary to suspend the Spanish clementine program in the first place.

The efficacy of cold treatment is scientifically based and would mitigate the risk of pest introduction. As a general rule, APHIS has required treatments for fruit flies to provide probit 9 mortality in cases where treatment is the only mitigation measure applied against the pest of concern. Probit 9 refers to a level or percentage of mortality of target pests (i.e., 99.9968 percent mortality or 32 survivors out of a million) caused by a control measure. This is because the level of mortality represented by this benchmark is considered extremely high and stringent, especially when the field infestation rates are low.¹ Under this proposed rule, we would require a treatment schedule that we are confident will provide a level of quarantine security that is equivalent to probit 9, but we would also require that fruit be consistently at low rates of infestation by fruit flies in order to ensure that there is a very low probability that fruit flies could survive cold treatment and become established in the United States. Maintaining fruit fly traps and trapping records is a component of Peru's fruit fly program and would ensure that fruit fly prevalence levels remain low at participating groves.

¹ A detailed consideration of the shortcomings associated with any measure that uses a fixed expression of proportion of mortality (such as probit 9) may be found in: Landolt, P., D. Chambers, and V. Chew. 1984. “Alternative to the use of prohit 9 mortality as a criterion for quarantine treatments of fruit fly infested fruit.” J. Econ. Entomol. 77(2): 285-287.

One commenter stated that the pest risk analysis does not address all pests or all possible negative consequences that may occur as a result of introducing Peruvian citrus to moderate climates where pests may become established. The commenter stated that because we geographically isolate areas in Peru where citrus may be exported, then we should also prohibit Peruvian citrus from entering areas in California where pests are more likely to become established.

We identified all pests known to be associated with Peruvian citrus. Using available literature and pest interception records, we established which pests would most likely follow the pathway. Our risk analysis examined the likelihood of each pest becoming established in various parts of the United States based on the number and availability of suitable hosts and climates. This information was one component used to determine the overall pest risk potential and necessary mitigation measures. We believe that our proposed measures would effectively mitigate the risk of pest introduction into all areas of the United States. Further, we would only allow citrus exports from certain areas in Peru because those areas are part of the country's ongoing fruit fly and disease surveillance programs.

One commenter stated that growers in Peru use spray treatments for citrus pests extensively, indicating a heavy reliance on chemicals. The commenter contended that this could in turn lead to the development of strains of pests that are resistant to certain chemicals.

The risk analysis examined the use of pesticides for commercial citrus in Peru and concluded that the materials used are consistent with citrus pest control recommendations in the United States. With the exception of Medfly, none of the pests targeted in the typical spray schedule (see table 3 in the pest risk analysis) are pests of quarantine significance likely to follow the pathway of imported fruit.

One commenter stated that having the rule apply only to commercial shipments appears to assume that there are fewer risks associated with these types of shipments. The commenter stated that commercial shipments actually increase the risk of pest introduction due to the large volumes of material being imported and the subsequent rapid distribution of the product throughout the United States and cited several examples including Medfly larvae in clementines from Spain (2002-2003) and Anastrepha spp. larvae in tangerines from Mexico (October 2003).

Our experience indicates that there is actually a lower risk of pest introduction associated with commercial shipments of fruit. Commercial shipments are produced under more controlled conditions and are subject to some form of treatment and/or other mitigation measures as a condition of entry. Fruit that undergoes such measures is less likely to be a vehicle for plant pests than fruit carried into the United States by passengers, which is not subject to such mitigation procedures.

Risk Analysis

We have not made any changes to the pest risk analysis in response to these comments. The pest risk analysis may be viewed on the EDOCKET Web site or in our reading room (Instructions for accessing EDOCKET and information on the location and hours of the reading room are provided under the heading ADDRESSES at the beginning of this document). You may also request copies of those documents from the person listed under FOR FURTHER INFORMATION CONTACT.

Based on the evidence in the pest risk analysis, we believe that grapefruit, limes, mandarin oranges or tangerines, sweet oranges, and tangelos can be safely imported from certain geographic locations in Peru, provided certain conditions are met. Therefore, we are proposing to add a new § 319.56-2nn to the regulations to provide for the importation of commercial shipments of citrus from Peru. This proposed new section is explained in detail below.

Permit

Under paragraph (a) of the proposed regulations, a specific written permit issued in accordance with § 319.56-3 would be required to import grapefruit, limes, mandarin oranges or tangerines, sweet oranges, and tangelos from Peru. Importers would be required to apply to the Plant Protection and Quarantine (PPQ) program for a permit in advance of the proposed shipments, stating in the application the country or locality of origin of the fruits, the port of first arrival, and the name and address of the importer in the United States to whom the permit should be sent. Upon receipt of the application and upon approval by an inspector, a permit would be issued specifying the conditions of entry, which will be discussed in the following paragraphs, and the port of entry. In accordance with § 319.56-4, a permit, once issued, could be amended or withdrawn by the Administrator at any time if it is determined that the importation of the fruit presents an unacceptable risk of introducing quarantine pests into the United States.

Commercial Shipments

Under paragraph (b) of the proposed regulations, we would specify that only commercial shipments of citrus would be eligible for importation into the United States. Commercial shipments of citrus fruit exported from Peru already follow specific post-harvest procedures which include dipping in a chlorine bath, running through roller brushes, treating with a fungicide, waxing, drying with hot air, visually inspecting 100 percent of the fruit to determine which are export quality, and packing by hand. We believe that with such practices in place, in addition to the following phytosanitary measures, the risk of pest introduction into the United States would be mitigated.

Approved Growing Areas

Under paragraph (c) of the proposed regulations, we would require that imported fruit originate in one of the following approved citrus-producing zones: Zone I, Piura; Zone II, Lambayeque; Zone III, Lima; Zone IV, Ica; and Zone V, Junin. Zones I through IV currently produce citrus and Peru has identified Zone V as a potential location for citrus production. This proposed limitation on the origin of the fruit would ensure that the fruit was produced in areas where citrus disease surveys and fruit fly monitoring occur.

Approved Production Sites

Under paragraph (d) of the proposed regulations, all citrus production sites would have to be approved by and registered with SENASA. Registered sites would be required to participate in Peru's national program for fruit fly control, which includes trapping, sampling, and other integrated pest management activities.

Fruit Fly Monitoring

Paragraph (e) of the proposed regulations would provide that Peru's fruit fly management program must be approved by APHIS and must require that citrus producers allow APHIS inspectors access to all production areas in order to monitor compliance with the program. All areas where citrus is produced for export to the United States would have to be monitored for fruit flies beginning 6 weeks prior to the harvest season at a rate mutually agreed upon by APHIS and the NPPO of Peru. If fruit fly trapping levels exceed the thresholds established by APHIS and the NPPO of Peru, we would suspend exports from that production site until APHIS and the NPPO of Peru conclude that fruit fly populations have been reduced to an acceptable level. Fruit fly traps are monitored and serviced weekly, thus reinstatement to the program would be evaluated on a weekly basis. We would require that the NPPO of Peru or its designated representative keep records that document the fruit fly trapping and control activities in areas that produce citrus for export to the United States. We would also require that the NPPO of Peru maintain records of fruit fly trapping and control and make these records available to APHIS upon request. In addition, fruit fly trapping records are available on SENASA's Web site, which can be accessed by APHIS at any time.

Treatment

To address the risk presented by the fruit flies Anastrepha fraterculus, A. obliqua, A. serpentina, and Medfly, paragraph (f) of the proposed regulations would require that all fruit be cold treated in accordance with the following schedule, which is listed in the regulations in 7 CFR part 305 as T107-a-1, or irradiated in accordance with part 305. The following treatment schedule is approved for Anastrepha spp. and Medfly.

Temperature | Exposure period
34 °F (1.11 °C) or below | 15
35 °F (1.67 °C) or below | 17

Phytosanitary Inspection

The remaining pest of concern is Ecdytolopha aurantiana, a pest more commonly known as the citrus fruit borer. To address the risk presented by this pest, paragraph (g) of the proposed regulations would require that consignments be inspected prior to export and accompanied by a phytosanitary certificate with an additional declaration stating that the consignment has been inspected and found free of E. aurantiana.

We believe that inspection and a phytosanitary certificate would effectively mitigate the risk of introducing E. aurantiana because evidence suggests that the adults do not travel long distances, decreasing the likelihood of their coming into contact with suitable hosts. In addition, E. aurantiana is easy to detect in visual inspections.

Fruit Cutting

As noted previously, § 319.56-2d(b)(8) of the regulations provides that at the port of first arrival, an inspector will sample and cut fruit from each shipment that has been cold treated for Medfly to monitor treatment effectiveness. Because citrus from Peru would be cold treated for Medfly as a condition of entry, the port of entry inspection would include fruit cutting. Therefore, under paragraph (h) of the proposed regulations, we would require that fruit be inspected, sampled, and cut to monitor for treatment effectiveness at the port of first arrival in accordance with § 319.56-2d(b)(8). If a single live fruit fly in any stage of development or a single E. aurantiana is found, the shipment would be held until an investigation is completed and appropriate remedial actions have been implemented. If APHIS determines at any time that the prescribed cold treatment does not appear to be effective against fruit flies, APHIS may suspend the importation of fruit from the originating country and conduct an investigation into the cause of the deficiency.

Executive Order 12866 and Regulatory Flexibility Act

This proposed rule has been reviewed under Executive Order 12866. The rule has been determined to be not significant for the purposes of Executive Order 12866 and, therefore, has not been reviewed by the Office of Management and Budget.

We are proposing to amend the fruits and vegetables regulations to allow the importation, under certain conditions, of fresh commercial citrus fruit (grapefruit, limes, mandarin oranges or tangerines, sweet oranges, and tangelos) from approved areas of Peru into the United States. Based on the evidence in a recent pest risk analysis, we believe these articles can be safely imported from Peru, provided certain conditions are met. This action would provide for the importation of citrus from Peru into the United States while continuing to protect the United States against the introduction of plant pests.

Peru is not yet considered a major world producer of citrus, and its citrus industry is relatively small compared to neighboring countries like Brazil, Uruguay, and Argentina. Oranges account for the greatest proportion of citrus production in Peru (271 million kg), followed by lemons and limes (238 million kg), tangerines, clementines, mandarins, and satsumas (132 million kg), and grapefruit and pomelos (30.5 million kg) (see table 1). Peru exported 11.3 million kg of citrus to more than 11 countries in 2003. Five exporters in four packinghouses account for 98 percent of the total exports.

Table 1.—Citrus production in Peru (2000)
Crop | Area harvested (hectares) | Production (metric tons)
Oranges | 23,353 | 270,673
Lemons and limes | 23,363 | 238,179
Tangerine, clementine, mandarin, and satsuma | 7,375 | 131,787
Grapefruit and pomelos | 1,750 | 30,500
Source: World Resources Institute (2002), cited in the pest risk analysis.

The United States produced 16.4 million tons of citrus fruit in 2003-04, valued at $2.35 billion. Citrus is produced in Florida, California, Arizona, and Texas. Florida accounts for 79 percent of U.S. citrus production and 58 percent of the value of production. California accounts for 18 percent of production and 39 percent of the value of production, while Arizona and Texas together contribute 3 percent of production and 3 percent of the value of production.

Oranges represented 79 percent of the volume of individual citrus crops and 70 percent of the dollar value of domestic production in 2003-04 (table 2). Grapefruit represented 13 percent, lemons 11 percent, tangerines 5 percent, and tangelos and temples less than 1 percent of the value of production. Tangerines are produced in Florida only. Estimates for K-early citrus and limes have been discontinued since 2002-03, and are therefore not available for 2003-04. However, in 2001-02, these crops represented less than 0.1 percent of the dollar value of total citrus production in the United States. Clementines and mandarins are not produced in the United States in commercially significant quantities.

Table 2.—Citrus Production in the United States: Acreage, Production, Utilization, and Value by Crop (2003-04)
Crop | Bearing acreage (acres) | Production (1,000 tons) | Utilization of production (1,000 tons): Fresh | Utilization of production (1,000 tons): Processed | Value of production ($1,000) ¹
Oranges | 761,400 | 12,930 | 2,179 | 10,751 | 1,645,856
Grapefruit | 114,800 | 2,152 | 1,006 | 1,146 | 296,777
Lemons | 59,800 | 798 | 540 | 258 | 269,753
Tangelos | 8,000 | 45 | 25 | 20 | 9,871
Tangerines ² | 36,200 | 435 | 317 | 118 | 125,301
Temples | 3,400 | 63 | 15 | 48 | 4,806
K-Early Citrus (2001-02) ³ | 200 | 1 | N/A | 1 | 113
Limes (2001-02) ³ | 800 | 7 | 6 | 1 | 1,732
Source: National Agricultural Statistics Service, USDA (September 2004) (http://www.usda.gov/nass).
¹ Packinghouse-door equivalents.
² Published estimates include Florida only. Estimates for 2003-04 include Fallglo, Sunburst, and Honey varieties only.
³ Estimates for K-early citrus and limes have been discontinued since 2001-02 and are therefore not available for 2003-04.

U.S. domestic shipments peak between October and January, gradually decrease from February to June, and are at the lowest between July and September. In contrast, the shipping season for the Peruvian citrus crops proposed for import into the United States are expected to extend from February to September, which is outside the peak shipment season for domestically produced oranges. For Peruvian oranges specifically, imports into the United States are mainly expected from June to September, when domestic orange shipments are at their lowest. Thus, the importation of Peruvian citrus fruits is not expected to compete with the production and shipment of U.S. domestically produced oranges intended for fresh utilization. Instead, imports of Peruvian citrus would provide U.S. consumers and importers with access to citrus fruit during periods when supply from domestic production is low, thus, increasing the availability of fresh citrus fruit throughout the year.

U.S. imports of citrus fruits from northern hemisphere countries are also lower during this period. For example, Spain accounts for 25.5 percent of U.S. imports of citrus fruits (table 3). Citrus fruits from Spain are primarily imported into the United States from mid-September to mid-March. Thus, Peruvian shipments between February and September would increase the availability of citrus fruits during the season when supply from both domestic production and imports from northern hemisphere countries such as Spain, and other countries listed in table 3, are low. Therefore, U.S. consumers and importers would benefit and potential negative impacts on U.S. citrus producers are expected to be minimal.

In 2004, the United States imported 478.4 million kg of citrus valued at $307.2 million. The major countries from which citrus fruit were imported included Mexico, Spain, South Africa, Australia, and Chile. Lemons and limes, mandarins, and oranges were the major products imported, and accounted for 48 percent, 32 percent, and 19 percent of the value of imports, respectively.

Table 3.—U.S. Imports of Citrus Fruits (2004)
Commodity | Value (U.S. dollars in millions) | Quantity (million kg) | Major countries from which citrus is imported, and percent share of import value ¹
Lemons and limes | 146.5 | 321.1 | Mexico (88%), Chile (7.6%), Spain (2%).
Mandarins | 99.0 | 77.3 | Spain (76.2%), South Africa (12.6%), Australia (6.4%), Mexico (2.2%), Morocco (1.4%).
Oranges | 58.8 | 65.7 | South Africa (45.2%), Australia (42.8%), Mexico (9.1%), Dominican Republic (1.2%).
Grapefruit | 1.6 | 13.8 | Bahamas (68.6%), Mexico (26.0%), Canada (2.9%), Israel (2.4%).
Other citrus fruit ² | 1.3 | 0.6 | Jamaica (68.0%), Israel (25.1%), Italy (3.7%), Vietnam (1.2%), Morocco (1.2%).
Total citrus fruits | 307.2 | 478.4 | Mexico (44.5%), Spain (25.5%), South Africa (12.9%), Australia (10.3%), and Chile (3.6%).
Source: World Trade Atlas (2005) (http://www.gtis.com).
¹ Only countries accounting for more than 1 percent of the value of imports are included in table 3.
² Includes various fresh and dried citrus fruits, such as kumquats, citrons, bergamots, and Tahitian, Persian, and other limes of the Citrus latifolia variety.

Peruvian exporters estimated that exports of citrus to the United States would total 5,100 metric tons (5.1 million kg) a year. Tangerines/mandarins and tangelos are expected to comprise 69 percent of these exports (table 4). The estimated volume of 5.1 million kg of U.S. citrus imports from Peru would comprise a relatively minimal amount, compared to current U.S. citrus imports of 478.4 million kg, and U.S. domestic citrus production of 16.42 billion kg.

Table 4.—Estimated Annual Volume of Peruvian Citrus Exports to the United States ¹
Commodity | Metric tons | Number of 40-foot shipping containers ²
Tangerine/mandarin | 2,000 | 100
Tangelo | 1,500 | 75
Key Lime | 600 | 30
Clementine | 500 | 25
Washington navel orange | 300 | 15
Grapefruit | 200 | 10
Total | 5,100 | 255
Sources: Carbonell Torres, 2003, and Cargo Systems, 2001, cited in the pest risk analysis.
¹ Volumes were estimated for the year 2004.
² A conversion factor of 20 metric tons per 40-foot shipping container is used.

Impact on Small Entities

According to the 2002 Census of Agriculture, there were 17,727 citrus farms in the United States in 2002. The U.S. Small Business Administration defines a small citrus producer as one with annual gross revenues no greater than $ 750,000. The USDA's National Agricultural Statistics Service reported that 3.8 percent of U.S. fruit and tree nut producers accounted for 95.1 percent of sales in 1982, 4.2 percent of fruit and tree nut producers accounted for 96.2 percent of sales in 1987, and 4.6 percent of fruit and tree nut producers accounted for 96.7 percent of sales in 1992. These data indicate that the majority of U.S. citrus producers are small entities.

The economic analysis suggests that Peruvian imports would not significantly compete with domestic citrus production because the imports would be shipped largely during the off-season for U.S. production of these fruits. Although the Peruvian imports are expected to overlap with some domestic orange shipments such as Valencia oranges, the volume to be imported would be expected to be a small percentage of the total U.S. orange shipments during the importing months. Thus, given the difference in marketing seasons and the relatively small volume of citrus imports from Peru, the proposed rule would not likely adversely impact domestic citrus producers, large or small.

The proposed rule would likely benefit importers of citrus fruits. The number of importers that can be classified as small is not known. However, the rule would likely benefit, rather than adversely impact, small entities in these industries, which include: Fresh fruit and vegetable wholesalers with no more than 100 employees, NAICS 422480; wholesalers and other grocery stores with annual gross revenues no greater than $23 million, NAICS 445110; warehouse clubs and superstores with annual gross revenues no greater than $23 million, NAICS 452910; and fruit and vegetable markets with gross revenues no greater than $6 million, NAICS 445230.

Consumers would also likely benefit through the increased availability of fresh citrus fruit during the months when shipments from domestic sources, and imports from Northern Hemisphere countries such as Spain, and other countries listed in table 3, are low.

Under these circumstances, the Administrator of the Animal and Plant Health Inspection Service has determined that this action would not have a significant economic impact on a substantial number of small entities.

Executive Order 12988

This proposed rule would allow grapefruit, limes, mandarin oranges or tangerines, sweet oranges, and tangelos to be imported into the United States from Peru. If this proposed rule is adopted, State and local laws and regulations regarding grapefruit, limes, mandarin oranges or tangerines, sweet oranges, and tangelos imported under this rule would be preempted while the fruit is in foreign commerce. Fresh fruits are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

National Environmental Policy Act

To provide the public with documentation of APHIS' review and analysis of any potential environmental impacts associated with the importation of commercial citrus from Peru, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment may be viewed on the EDOCKET Web site or in our reading room. (Instructions for accessing EDOCKET and information on the location and hours of the reading room are provided under the heading ADDRESSES at the beginning of this proposed rule). In addition, copies may be obtained by calling or writing to the individual listed under FOR FURTHER INFORMATION CONTACT.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. 03-113-2. Please send a copy of your comments to: (1) Docket No. 03-113-2, Regulatory Analysis and Development, PPD, APHIS, Station 3C71, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

Under this proposed rule, we would add provisions for the importation of citrus from Peru. The proposed measures would require the production site where the fruit is grown to be registered for export with the NPPO of Peru and the producer to have signed an agreement with the NPPO of Peru whereby the producer agrees to participate in and follow the fruit fly management program established by the NPPO of Peru.

The NPPO of Peru or its designated representative would also have to keep records that document the fruit fly trapping and control activities in areas that produce citrus for export to the United States. All trapping and control records kept by the NPPO of Peru or its designated representative would have to be made available to APHIS upon request.

In addition, the proposed rule would require each shipment of fruit to be accompanied by a phytosanitary certificate issued by the NPPO of Peru stating that the fruit has been inspected and found free of Ecdytolopha aurantiana.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 27.7727 hours per response.

Respondents: Citrus growers/grove registrants, Peru's NPPO.

Estimated annual number of respondents: 20.

Estimated annual number of responses per respondent: 5.5.

Estimated annual number of responses: 110.

Estimated total annual burden on respondents: 3,055 hours. (Due to averaging, the total annual burden hours may not equal the product of the annual number of responses multiplied by the reporting burden per response.)

Copies of this information collection can be obtained from Mrs. Celeste Sickles, APHIS' Information Collection Coordinator, at (301) 734-7477.

Government Paperwork Elimination Act Compliance

The Animal and Plant Health Inspection Service is committed to compliance with the Government Paperwork Elimination Act (GPEA), which requires Government agencies in general to provide the public the option of submitting information or transacting business electronically to the maximum extent possible. For information pertinent to GPEA compliance related to this proposed rule, please contact Mrs. Celeste Sickles, APHIS' Information Collection Coordinator, at (301) 734-7477.

List of Subjects in 7 CFR Part 319

Coffee, Cotton, Fruits, Imports, Logs, Nursery stock, Plant diseases and pests, Quarantine, Reporting and recordkeeping requirements, Rice, Vegetables.

Accordingly, 7 CFR part 319 would be amended as follows:

PART 319—FOREIGN QUARANTINE NOTICES

1. The authority citation for part 319 would continue to read as follows:

Authority: 7 U.S.C. 450 and 7701-7772; 21 U.S.C. 136 and 136a; 7 CFR 2.22, 2.80, and 371.3.

2. A new § 319.56-2nn would be added to read as follows:

§ 319.56-2nn Conditions governing the importation of citrus from Peru.

Grapefruit (Citrus paradisi), limes (C. aurantiifolia), mandarins or tangerines (C. reticulata), sweet oranges (C. sinensis), and tangelos (Citrus tangelo) may be imported into the United States from Peru under the following conditions:

(a) The fruit must be accompanied by a specific written permit issued in accordance with § 319.56-3.

(b) The fruit may be imported in commercial shipments only.

(c) Approved growing areas. The fruit must be grown in one of the following approved citrus-producing zones: Zone I, Piura; Zone II, Lambayeque; Zone III, Lima; Zone IV, Ica; and Zone V, Junin.

(d) Grower registration and agreement. The production site where the fruit is grown must be registered for export with the national plant protection organization (NPPO) of Peru, and the producer must have signed an agreement with the NPPO of Peru whereby the producer agrees to participate in and follow the fruit fly management program established by the NPPO of Peru.

(e) Management program for fruit flies; monitoring. The NPPO of Peru's fruit fly management program must be approved by APHIS, and must require that participating citrus producers allow APHIS inspectors access to production areas in order to monitor compliance with the fruit fly management program. The fruit fly management program must also provide for the following:

(1) Trapping and control. In areas where citrus is produced for export to the United States, traps must be placed in fruit fly host plants at least 6 weeks prior to harvest at a rate mutually agreed upon by APHIS and the NPPO of Peru. If fruit fly trapping levels at a production site exceed the thresholds established by APHIS and the NPPO of Peru, exports from that production site will be suspended until APHIS and the NPPO of Peru conclude that fruit fly population levels have been reduced to an acceptable limit. Fruit fly traps are monitored weekly; therefore, reinstatements of production sites will be evaluated on a weekly basis.

(2) Records. The NPPO of Peru or its designated representative must keep records that document the fruit fly trapping and control activities in areas that produce citrus for export to the United States. All trapping and control records kept by the NPPO of Peru or its designated representative must be made available to APHIS upon request.

(f) Cold treatment. The fruit must be cold treated for Anastrepha fraterculus, A. obliqua, A. serpentina, and Ceratitis capitata (Mediterranean fruit fly) in accordance with part 305 of this chapter.

(g) Phytosanitary inspection. Each consignment of fruit must be accompanied by a phytosanitary certificate issued by the NPPO of Peru stating that the fruit has been inspected and found free of Ecdytolopha aurantiana.

(h) Port of first arrival sampling. Citrus fruits imported from Peru are subject to inspection by an inspector at the port of first arrival into the United States in accordance with § 319.56-2d(b)(8). At the port of first arrival, an inspector will sample and cut citrus fruits from each shipment to detect pest infestation. If a single live fruit fly in any stage of development or a single E. aurantiana is found, the shipment will be held until an investigation is completed and appropriate remedial actions have been implemented.

Done in Washington, DC, this 27th day of September 2005.
W. Ron DeHaven,
Administrator, Animal and Plant Health Inspection Service.

[FR Doc. 05-19574 Filed 9-29-05; 8:45 am]

BILLING CODE 3410-34-U